Proclamation 9137 of May 30, 2014

National Caribbean-American Heritage Month, 2014

By the President of the United States of America

A Proclamation

Caribbean Americans are part of a great national tradition, descendants of hopeful, striving people who journeyed to our lands in search of a better life. They were drawn by a belief in the power of opportunity, a belief that through hard work and sacrifice, they could provide their children with chances they had never known. Thanks to these opportunities and their talent and perseverance, Caribbean Americans have contributed to every aspect of our society—from science and medicine to business and the arts. During National Caribbean-American Heritage Month, we honor their history, culture, and essential role in the American narrative.

It is also a time to renew our friendship with our Caribbean neighbors, with whom we share both an ocean and a history. To this end, the United States is expanding cooperation with our Caribbean partners as we promote social justice, grow prosperity throughout the Americas, and create new educational opportunities for young people across the Caribbean basin, as well as for Caribbean Americans in our own communities. We are also working to advance commonsense immigration reform that will allow future generations of Caribbean Americans to share their talents with our Nation.

As America celebrates our Caribbean heritage, let us hold fast to the spirit that makes our country a beacon to the world. This month, let us remember that we are always at our best when we focus not on what we can tear down, but on what we can build up. And together, let us strengthen the bonds that hold together the most diverse Nation on earth.

NOW, THEREFORE, I, BARACK OBAMA, President of the United States of America, by virtue of the authority vested in me by the Constitution and the laws of the United States, do hereby proclaim June 2014 as National Caribbean-American Heritage Month. I encourage all Americans to celebrate the history and culture of Caribbean Americans with appropriate ceremonies and activities.

IN WITNESS WHEREOF, I have hereunto set my hand this thirtieth day of May, in the year of our Lord two thousand fourteen, and of the Independence of the United States of America the two hundred and thirty-eighth.

[FR Doc. 2014-13158

Filed 6-3-14; 11:15 am]

Billing code 3295-F4